DEPARTMENT OF THE INTERIOR

Bureau of Reclamation

Folsom Lake State Recreation Area and Folsom Power House State Historic Park General Plan/Resource Management Plan

AGENCY: Bureau of Reclamation, Interior.

ACTION: Notice of Availability of the Draft Environmental Impact. Statement/Environmental Impact Report (EIS/EIR) and notice of public meeting.

SUMMARY: Pursuant to the National Environmental Policy Act (NEPA) of 1969 (as amended) and the California Environmental Quality Act (CEQA), the Bureau of Reclamation (Reclamation) and the California Department of Parks and Recreation (State Parks) as lead agencies have made available for public review and comment a joint Draft EIS/EIR for the Folsom Lake State Recreation Area and Folsom Power House State Historic Park General Plan/Resource Management Plan (GP/RMP). The Draft EIS/EIR describes and presents the environmental effects of four alternatives, including no action, for future use of the project area for recreation and resource protection and management. The purpose of the public meeting is to provide the public with an opportunity to comment on environmental issues addressed in the Draft EIS/EIR. Written comments will be accepted from individuals and organizations on the Draft EIS/EIR.

DATES: Two public hearings will be held:

• Wednesday, March 5, 2008, 7 to 9 p.m., Granite Bay, CA.

• Tuesday, March 11, 2008, 7 to 9 p.m., Folsom, CA.

Submit written comments on the Draft EIS/EIR (see ADDRESSES Section) on or before March 24, 2008.

ADDRESSES: The public hearings will be held at:

• Granite Bay at the Cavitt Junior High School gymnasium, 7200 Fuller Drive, Granite Bay, CA 95746.

• Folsom at Folsom Middle School auditorium, multi-purpose room, 500 Blue Ravine Road, Folsom, CA 95630.

Send written comments on the Draft EIS/EIR to: Jim Micheaels, Staff Park and Recreation Specialist, State Parks, 7806 Folsom-Auburn Road, Folsom, CA 95630.

Send requests for a compact disk or a bound copy of the Draft EIS/EIR to Jim Micheaels, State Parks, at the above address; telephone: 916-988-0513.

Copies of the Draft GP/RMP and EIS/EIR will be available for review at: http://www.usbr.gov/mp/nepa/nepa_projdetails.cfm?PROJECT_ID=543 and at the State Parks Web site at http://www.parks.ca.gov/?page_id=22322.

See Supplementary Information Section for locations where copies of the Draft EIS/EIR are available for public review.

FOR FURTHER INFORMATION CONTACT: Laura Caballero, Natural Resources Manager, Reclamation, at 916-989-7172; or Jim Micheaels, Staff Park and Recreation Specialist, State Parks, at 916-988-0513.

SUPPLEMENTARY INFORMATION: The GP/RMP is being prepared for the Folsom Lake State Recreation Area through a cooperative agreement between Reclamation and State Parks.

This planning activity encompasses approximately 20,000 acres of publicly accessible water and land owned by Reclamation and managed by State Parks' Gold Fields District. The GP/RMP will be the primary management document for the park unit, providing a defined purpose, vision, long-term goals, and management guidelines. It will be used by State Parks as a framework for guiding decision-making related to future development potential, on-going management, and public use of the Folsom Lake State Recreation Area.

The GP/RMP attempts to enhance and expand the recreation opportunities while also providing more active protection and management of natural and cultural resources. The GP/RMP is intended to be implemented over an extended period as determined by both user demand and need. To do so, the GP/RMP provides both park wide goals and guidelines relating to natural, cultural and visual resources, water quality, circulation, visitor services, interpretation and operations as well as direction for specific zones of the park. The GP/RMP designates 34 geographic management zones, with 12 on Lake Natoma and 22 on Folsom Lake. Each zone has a specific management emphasis and is designated with one of five land use designations: Recreation-High, Recreation-Medium, Conservation, Preservation, or Administration.

The preferred alternative includes 12 recreation zones, 17 conservation zones, 3 preservation zones, and 2 administration zones. Based on this area, the management emphasis is for recreation on 91% of the aquatic area and 20% of the land area, and conservation on 74% of the land area and 9% of the aquatic area; however, it will ultimately be the responsibility of State Parks and the Parks and Recreation Commission and Reclamation to select a preferred plan for adoption, once the environmental review processes have been completed.

The EIS/EIR is a program-level analysis of the potential environmental impacts associated with adoption of the GP/RMP. The GP/RMP is intended to be predominantly self-mitigating through implementation of GP/RMP policies and management strategies, and the EIS/EIR will also include measures intended to reduce the adverse effects of the GP/RMP.

Copies of the Draft EIS/EIR are available for public review at the following locations:

• California State Parks, Folsom Lake SRA Office, 7806 Folsom Auburn Road, Folsom, CA 95630.

• Sacramento Central Library, 828 I Street, Sacramento, CA 95542.

• Folsom Public Library, Georgia Murray Building, 411 Stafford Street, Folsom, CA 95630.

• El Dorado County Main Library, 345 Fair Lane, Placerville, CA 95667.

• Placer County Library, Auburn Branch, 350 Nevada Street, Auburn, CA 95603.

• Placer County Library, Granite Bay Branch, 6475 Douglas Boulevard, Granite Bay, CA 95746.

If special assistance is required at the public hearings, please contact Ms. Laura Caballero at 916-989-7172 (e-mail: lcaballero@mp.usbr.gov). Please notify Ms. Caballero as far in advance of the hearings as possible to enable Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: December 18, 2007.
Richard M. Johnson,
Acting Regional Director, Mid-Pacific Region.

[FR Doc. E8-2071 Filed 2-4-08; 8:45 am]

BILLING CODE 4310-MN-P